DEPARTMENT OF COMMERCE

Foreign-Trade Zones Board

[S-83-2017]

Approval of Subzone Expansion; Mitsubishi Chemical Carbon Fiber and Composites, Inc.; Sacramento, California

On June 1, 2017, the Executive Secretary of the Foreign-Trade Zones (FTZ) Board docketed an application submitted by the Sacramento-Yolo Port District, grantee of FTZ 143, requesting an expansion of Subzone 143D, subject to the existing activation limit of FTZ 143, on behalf of Mitsubishi Chemical Carbon Fiber and Composites, Inc., in Sacramento, California.

The application was processed in accordance with the FTZ Act and Regulations, including notice in the Federal Register inviting public comment (82 FR 28628, June 23, 2017). The FTZ staff examiner reviewed the application and determined that it meets the criteria for approval. Pursuant to the authority delegated to the FTZ Board Executive Secretary (15 CFR 400.36(f)), the application to expand Subzone 143D was approved on September 13, 2017, subject to the FTZ Act and the Board's regulations, including Section 400.13, and further subject to FTZ 143's 2,000-acre activation limit.

Dated: September 22, 2017.
Andrew McGilvray,
Executive Secretary.

[FR Doc. 2017-20819 Filed 9-27-17; 8:45 am]

BILLING CODE 3510-DS-P